DEPARTMENT OF THE DEFENSE

Department of the Army, Corps of Engineers

Withdrawal of the Notice of Intent To Prepare an Environmental Impact Statement the Lower Santa Cruz River Flood Risk Management Feasibility Study, Pinal County, Arizona

AGENCY: Army Corps of Engineers, DoD.

ACTION: Notice of intent; withdrawal.

SUMMARY: The U.S. Army Corps of Engineers, Los Angeles District is notifying interested parties that it has withdrawn the notice of intent (NOI) to develop an environmental impact statement (EIS) for the proposed Lower Santa Cruz River Flood Risk Management Feasibility Study. The original NOI to prepare a EIS was published in the Federal Register on November 9, 2015. The proposed Lower Santa Cruz River Flood Risk Management Feasibility Study is being converted to a Continuing Authority Program (CAP) study.

DATES: The notice of intent to prepare an EIS published in the Federal Register on November 9, 2015 (80 FR 69201), is withdrawn as of July 30, 2021.

ADDRESSES: U.S. Army Corps of Engineers, Los Angeles District, Environmental Resources Branch, (CESPL-PDR), 915 Wilshire Boulevard, Los Angeles, CA 90017.

FOR FURTHER INFORMATION CONTACT: Questions regarding the withdrawal of this NOI should be addressed to Mr. Kenneth Wong, kenneth.wong@usace.army.mil, (213) 452-3847.

SUPPLEMENTARY INFORMATION: Pursuant to the National Environmental Policy Act (NEPA), the U.S. Army Corps of Engineers, Los Angeles District, in partnership with the Pinal County Flood Control District, intended to prepare an Integrated Feasibility Report and EIS for the Lower Santa Cruz River Flood Risk Management Feasibility Study.

The study's purpose is to evaluate methods for minimizing flood risks along the Lower Santa Cruz River and its major tributaries within an approximately 1,400 square mile study area in Pinal County, Arizona. After the NOI's publication, the geographic scope of the study was reduced such that the study will be converted to a CAP Section 205 study which address Flood Risk Management projects of limited size, cost, and complexity.

Antoinette R. Gant,
Colonel, U.S. Army, Division Commander.

[FR Doc. 2021-16324 Filed 7-29-21; 8:45 am]

BILLING CODE 3720-58-P